DEPARTMENT OF ENERGY

Federal Energy Regulatory Commission

Combined Notice of Filings

Take notice that the Commission has received the following Natural Gas Pipeline Rate and Refund Report filings:

Filings Instituting Proceedings

Docket Numbers: PR23-18-000.

Applicants: Worsham-Steed Gas Storage, LLC.

Description: § 284.123 Rate Filing: Updated Market Power Study—Compliance Filing to be effective N/A.

Filed Date: 12/16/22.

Accession Number: 20221216-5201.

Comment Date: 5 p.m. ET 1/6/23

Docket Numbers: PR23-19-000.

Applicants: Hill-Lake Gas Storage, LLC.

Description: § 284.123 Rate Filing: Updated Market Power Study—Compliance Filing to be effective N/A.

Filed Date: 12/16/22.

Accession Number: 20221216-5204.

Comment Date: 5 p.m. ET 1/6/23.

Docket Numbers: RP23-290-000.

Applicants: Millennium Pipeline Company, LLC.

Description: Compliance filing: Penalty Revenue Crediting Report 2022 to be effective N/A..

Filed Date: 12/16/22.

Accession Number: 20221216-5093.

Comment Date: 5 p.m. ET 12/28/22.

Docket Numbers: RP23-292-000.

Applicants: Crossroads Pipeline Company.

Description: Compliance filing: Penalty Revenue Crediting Report 2022 to be effective N/A.

Filed Date: 12/16/22.

Accession Number: 20221216-5151.

Comment Date: 5 p.m. ET 12/28/22.

Docket Numbers: RP23-293-000.

Applicants: Golden Triangle Storage, LLC.

Description: § 4(d) Rate Filing: Name Change to be effective December 16, 2022 to be effective 12/16/2022.

Filed Date: 12/16/22.

Accession Number: 20221216-5203.

Comment Date: 5 p.m. ET 12/28/22.

Docket Numbers: RP23-294-000.

Applicants: Portland Natural Gas Transmission System.

Description: § 4(d) Rate Filing: Negotiated Rate and Non-Conforming Agreement Clean Up to be effective 1/16/2023.

Filed Date: 12/16/22.

Accession Number: 20221216-5235.

Comment Date: 5 p.m. ET 12/28/22.

Docket Numbers: RP23-295-000.

Applicants: ANR Pipeline Company.

Description: Compliance filing: CP20-484—AXP Compliance Filing to be effective 1/6/2023.

Filed Date: 12/16/22.

Accession Number: 20221216-5252.

Comment Date: 5 p.m. ET 12/28/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2022.
Debbie-Anne A. Reese,
Deputy Secretary.

[FR Doc. 2022-27963 Filed 12-22-22; 8:45 am]

BILLING CODE 6717-01-P